DEPARTMENT OF COMMERCE

National Oceanic and Atmospheric Administration

[RTID 0648-XE457]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Amy Hapeman (Permit Nos. 26725-01 and 28119), Shasta McClenahan, Ph.D., (Permit Nos. 27858, 27867, 28184, and 28277), Jennifer Skidmore (Permit No. 28080), and Erin Markin, Ph.D., (Permit Nos. 28171, 28192 and 23096-02); at (301) 427-8401.

SUPPLEMENTARY INFORMATION: Notices were published in the Federal Register on the dates listed below that requests for a permit, permit amendment, or permit modification had been submitted by the below-named applicants. To locate the Federal Register notice that announced our receipt of the application and a complete description of the activities, go to https://www.federalregister.gov and search the file number provided in table 1 below.

Table 1—Issued Permits, Permit Amendments, and Permit Modifications
File No. | Version No. | RTID | Applicant | Previous Federal Register notice | Issuance date
23096 | 02 | 0648-XE263 | University of Georgia, 180 East Green Street, Athens, GA 30602 (Responsible Party: Nate Nibbelink, Ph.D.) | 88 FR 74217, September 12, 2024 | October 22, 2024.
26725 | 01 | 0648-XC758 | Florian Graner, Ph.D., 4021 Beach Drive, Freeland, WA 98249 | 88 FR 8408, February 9, 2023 | October 8, 2024.
27858 | N/A | 0648-XE121 | Maine Department of Marine Resources, 194 McKown Point Road, West Boothbay Harbor, ME 04575 (Responsible Party: Sarah Leiter) | 89 FR 58341, July 18, 2024 | October 17, 2024.
27867 | N/A | 0648-XE136 | NMFS Southeast Fisheries Science Center, 75 Virginia Beach Drive, Miami, FL 33149 (Responsible Party: Mridula Srinivasan, Ph.D.) | 89 FR 59898, July 24, 2024 | October 21, 2024.
28080 | N/A | 0648-XE079 | Oregon Coast Aquarium, 2820 SE Ferry Slip Road, Newport, OR 97365 (Responsible Party: James Burke) | 89 FR 58128, July 17, 2024 | October 17, 2024.
28119 | N/A | 0648-XE186 | NMFS Southwest Fisheries Science Center, 8901 La Jolla Shores Drive, La Jolla, CA 92037 (Responsible Party: Jeffrey Seminoff, Ph.D.) | 89 FR 67424, August 20, 2024 | October 18, 2024.
28184 | N/A | 0648-XE242 | Dan Engelhaupt, Ph.D., HDR, 4173 Ewell Road, Virginia Beach, VA 23455 | 89 FR 70173, August 29, 2024 | October 31, 2024.
28171 | N/A | 0648-XE145 | Rachel Cartwright, Ph.D., Keiki Kohola Project, 1330 Sabal Lakes Road, Delray Beach, FL 33445 | 89 FR 63164, August 2, 2024 | October 23, 2024.
28192 | N/A | 0648-XE151 | Olga von Ziegesar, Winged Whale Research, 53254 Marimac Avenue, Homer, AK 99603 | 89 FR 63167, August 2, 2024 | October 22, 2024.
28277 | N/A | 0648-XE205 | NMFS Alaska Fisheries Science Center's Marine Mammal Laboratory, 7600 Sand Point Way NE, Seattle, WA 98115 (Responsible Party: John Bengtson, Ph.D.) | 89 FR 67422, August 20, 2024 | October 21, 2024.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: November 8, 2024.
Amy Sloan,
Acting Chief, Permits and Conservation Division, Office of Protected Resources, National Marine Fisheries Service.

[FR Doc. 2024-26477 Filed 11-13-24; 8:45 am]

BILLING CODE 3510-22-P